DEPARTMENT OF STATE

[Public Notice 7966]

Advisory Committee on Historical Diplomatic Documentation; Notice of Meeting

SUMMARY: The Advisory Committee on Historical Diplomatic Documentation will meet on September 10-11, 2012, at the Department of State, 2201 “C” Street NW., Washington, DC. Portions of the meeting will be closed, as noted below. Prior notification and a valid government-issued photo ID (such as driver's license, passport, U.S. government or military ID) are required for entrance into the building. Members of the public planning to attend the meeting on September 10 must notify Colby Prevost, Office of the Historian (202-663-3901) no later than September 6, 2012, to provide date of birth, valid government-issued photo identification number and type (such as driver's license number/state, passport number/country, or U.S. government ID number/agency or military ID number/branch), and relevant telephone numbers. If you cannot provide one of the specified forms of ID, please consult with Colby Prevost for acceptable alternative forms of picture identification. In addition, any requests for reasonable accommodation should be made no later than September 4, 2012, for the September 10 meeting. Requests for reasonable accommodation received after that time will be considered, but might be impossible to fulfill.

The Committee will meet in open session from 11:00 a.m. until 12:00 Noon on Monday, September 10, 2012, in the Department of State, 2201 “C” Street NW., Washington, DC, in Conference Room 1408 to discuss declassification and transfer of Department of State records to the National Archives and Records Administration and the status of the Foreign Relations series. The remainder of the Committee's sessions in the afternoon of September 10, 2012, and in the morning on Tuesday, September 11, 2012, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure. Personal data are requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Questions concerning the meeting should be directed to Stephen Randolph, Executive Secretary, Advisory Committee on Historical Diplomatic Documentation, Department of State, Office of the Historian, Washington, DC, 20520, telephone (202) 663-1123, (email history@state.gov).

Dated: July 16, 2012.
Stephen Randolph,
Executive Secretary, Advisory Committee on Historical Diplomatic Documentation, Department of State.

[FR Doc. 2012-18662 Filed 7-30-12; 8:45 am]

BILLING CODE 4710-11-P